ENVIRONMENTAL PROTECTION AGENCY

[EPA-HQ-OPPT-2015-0744; FRL-9959-64-OEI]

Agency Information Collection Activities; Request to Renew OMB Control No. 2070-0046 (EPA ICR No. 0794.16) Submitted to OMB for Review and Approval; Comment Request

AGENCY: Environmental Protection Agency (EPA).

ACTION: Notice.

SUMMARY: EPA has submitted the following information collection request (ICR) to the Office of Management and Budget (OMB) for review and approval in accordance with the Paperwork Reduction Act (PRA): “Notification of Substantial Risk of Injury to Health and the Environment under TSCA Sec. 8(e)” and identified by EPA ICR No. 0794.16, OMB Control No. 2070-0046. This is a request to renew the approval of an existing ICR, which is currently approved through February 28, 2017. EPA has addressed the comments received in response to the previously provided public review opportunity issued in the Federal Register of July 5, 2016, (81 FR 43601). With this submission, EPA is providing an additional 30 days for public review.

DATES: Comments must be received on or before April 5, 2017.

ADDRESSES: Submit your comments, identified by Docket ID number EPA-HQ-OPPT-2015-0744, to both EPA and OMB as follows:

• To EPA online using http://www.regulations.gov (our preferred method) or by mail to: EPA Docket Center, Environmental Protection Agency, Mail Code 28221T, 1200 Pennsylvania Ave. NW., Washington, DC 20460, and

• To OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Colby Lintner, Environmental Assistance Division (7408M), Office of Pollution Prevention and Toxics, Environmental Protection Agency, 1200 Pennsylvania Ave. NW., Washington, DC 20460-0001; telephone number: (202) 554-1404; email address: TSCA-Hotline@epa.gov.

SUPPLEMENTARY INFORMATION:

Docket: Supporting documents, including the ICR that explains in detail the information collection activities and the related burden and cost estimates that are summarized in this document, are available in the docket for this ICR. The docket can be viewed online at http://www.regulations.gov or in person at the EPA Docket Center, West William Jefferson Clinton Bldg., Rm. 3334, 1301 Constitution Ave. NW., Washington, DC. The telephone number for the Docket Center is (202) 566-1744. For additional information about EPA's public docket, visit http://www.epa.gov/dockets.

ICR status: This ICR is currently scheduled to expire on February 28, 2017. Under OMB regulations, the Agency may continue to conduct or sponsor the collection of information while this submission is pending at OMB.

Under PRA, 44 U.S.C. 3501 et seq., an agency may not conduct or sponsor, and a person is not required to respond to, a collection of information unless it displays a currently valid OMB control number. The OMB control numbers are displayed either by publication in the Federal Register or by other appropriate means, such as on the related collection instrument or form, if applicable. The display of OMB control numbers for certain EPA regulations is consolidated in 40 CFR part 9.

Abstract: Section 8(e) of the Toxic Substances Control Act (TSCA) requires that any person who manufactures, imports, processes or distributes in commerce a chemical substance or mixture and which obtains information that reasonably supports the conclusion that such substance or mixture presents a substantial risk of injury to health or the environment must immediately inform EPA of such information. EPA routinely disseminates TSCA section 8(e) data it receives to other federal agencies to provide information about newly discovered chemical hazards and risks. This information collection refers to the reporting requirement described above.

Form Numbers: None.

Respondents/affected entities: Entities potentially affected by this ICR are companies that manufacture, process, import or distribute in commerce a chemical substance or mixture, and that obtain information that reasonably supports the conclusion that such substance or mixture presents a substantial risk of injury to health or the environment.

Respondent's obligation to respond: Mandatory (see 15 U.S.C. 2607(e)).

Estimated number of respondents: 65 (total).

Frequency of response: On occasion.

Total estimated burden: 21,412 hours (per year). Burden is defined at 5 CFR 1320.3(b).

Total estimated cost: $1,650,068 (per year), includes $0 annualized capital investment or maintenance and operational costs.

Changes in the estimates: There is an increase of 2,894 hours in the total estimated respondent burden compared with that identified in the ICR currently approved by OMB. This increase reflects EPA's revised estimates of the number of TSCA sec. 8(e) initial submissions. This change is an adjustment.

Authority: 44 U.S.C. 3501 et seq.

Courtney Kerwin,
Director, Regulatory Support Division.

[FR Doc. 2017-04166 Filed 3-3-17; 8:45 am]

BILLING CODE 6560-50-P